POSTAL SERVICE

Sunshine Act Meeting

Postal Service Board of Governors Meeting

TIME AND DATES: 8:00 a.m., Monday, September 10, 2001; 8:30 a.m., Tuesday, September 11, 2001; and 10:30 a.m., Tuesday, September 11, 2001.

PLACE: Washington, D.C., at U.S. Postal Service Headquarters, 475 L'Enfant Plaza, SW., in the Benjamin Franklin Room.

STATUS: September 10 (Closed); September 11—8:30 a.m. (Open); 10:30 a.m. (Closed).

Matters To Be Considered:

Monday, September 10—8:00 a.m. (Closed)

1. Pay for Performance Program.

2. Financial Performance.

3. Fiscal Year 2002 Integrated Financial Plan.

4. Rate Case Briefing.

5. Office of Inspector General Fiscal Year 2002 Budget.

6. Strategic Planning.

7. Personnel Matters and Compensation Issues.

Tuesday, September 11—8:30 a.m. (Open)

1. Minutes of the Previous Meetings, July 9-10, and August 6, 2001.

2. Remarks of the Postmaster General/Chief Executive Officer.

3. Postal Rate Commission Fiscal Year 2002 Budget.

4. Consideration of Borrowing Resolution.

5. Preliminary Fiscal Year 2003 Appropriation Request.

6. Fiscal Year 2002 Operating Budget.

7. Fiscal Year 2002 Capital Investment Plan.

8. Fiscal Year 2002 Financing Plan.

9. Capital Investment.

a. Priority Mail Processing Center Network—Lease Renewal Option.

10. Tentative Agenda for the October 1-2, 2001, meeting in Pittsburgh, Pennsylvania.

Tuesday, September 11—10:30 a.m. (Open)

1. Continuation of Monday's Closed Agenda.

CONTACT PERSON FOR MORE INFORMATION: David G. Hunter, Secretary of the Board, U.S. Postal Service, 475 L'Enfant Plaza, SW., Washington, DC 20260-1000. Telephone (202) 268-4800.

David G. Hunter,
Secretary.

[FR Doc. 01-21713 Filed 8-23-01; 2:55 pm]

BILLING CODE 7710-12-M